COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete service(s) from the Procurement List that were previously furnished by nonprofit agencies employing persons who are blind or have other severe disabilities.

DATES: Comments must be received on or before: August 25, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following services are proposed for deletion from the Procurement List:

Services

Service Type: Recycling, End of Life Electronics

Mandatory for: U.S. Mint: 633 3rd Street NW, Washington, DC

Mandatory Source of Supply: ServiceSource, Inc., Oakton, VA

Contracting Activity: DEPARTMENT OF THE TREASURY

Service Type: Janitorial/Custodial

Mandatory for: Department of Energy: Yucca Mountain Site Characterization Office 1551 Hillshire Drive, Las Vegas, NV

Mandatory Source of Supply: Opportunity Village Association for Retarded Citizens, Las Vegas, NV

Contracting Activity: Department of Energy, Headquarters Procurement Services

Service Type: Custodial Services

Mandatory for: VA Medical Center, 50 Irving Street NW, Washington, DC

Mandatory Source of Supply: Didlake, Inc., Manassas, VA

Contracting Activity: VETERANS AFFAIRS, DEPARTMENT OF, NAC

Patricia Briscoe,
Deputy Director, Business Operations (Pricing and Information Management).

[FR Doc. 2019-15896 Filed 7-25-19; 8:45 am]

BILLING CODE 6353-01-P